DEPARTMENT OF TRANSPORTATION

Federal Motor Carrier Safety Administration

[Docket No. FMCSA-2017-0021]

Qualification of Drivers; Exemption Applications; Vision

AGENCY: Federal Motor Carrier Safety Administration (FMCSA), DOT.

ACTION: Notice of denials.

SUMMARY: FMCSA announces its denial of 140 applications from individuals who requested an exemption from the Federal vision standard applicable to interstate truck and bus drivers and the reasons for the denials. FMCSA has statutory authority to exempt individuals from the vision requirement if the exemptions granted will not compromise safety. The Agency has concluded that granting these exemptions does not provide a level of safety that will be equivalent to, or greater than, the level of safety maintained without the exemptions for these commercial motor vehicle (CMV) drivers.

FOR FURTHER INFORMATION CONTACT: Ms. Christine A. Hydock, Chief, Medical Programs Division, (202) 366-4001, fmcsamedical@dot.gov, FMCSA, Department of Transportation, 1200 New Jersey Avenue SE., Room W64-113, Washington, DC 20590-0001. Office hours are 8:30 a.m. to 5 p.m., e.t., Monday through Friday, except Federal holidays.

SUPPLEMENTARY INFORMATION:

Background

Under 49 U.S.C. 31136(e) and 31315, FMCSA may grant an exemption from the Federal vision standard for a renewable two year period if it finds “such an exemption would likely achieve a level of safety that is equivalent to or greater than the level that would be achieved absent such an exemption.” The procedures for requesting an exemption are set forth in 49 CFR part 381.

Accordingly, FMCSA evaluated 140 individual exemption requests on their merit and made a determination that these applicants do not satisfy the criteria eligibility or meet the terms and conditions of the Federal exemption program. Each applicant has, prior to this notice, received a letter of final disposition on the exemption request. Those decision letters fully outlined the basis for the denial and constitute final Agency action. The list published in this notice summarizes the Agency's recent denials as required under 49 U.S.C. 31315(b)(4) by periodically publishing names and reasons for denial.

The following three applicants do not have sufficient driving experience over the past three years under normal highway operating conditions (limited hours):

Allen K. Anderson (TN)

Stephen M. D'Orazio (PA)

Jamie A. Edson (MI)

The following 36 applicants had no experience operating a CMV:

Frederick T. Aguilar (WA)

Javier Anguiano (TX)

Lacresia M. Armstead (MS)

Zane L.E. Beddow (MN)

Dennis K. Bench (MT)

William D. Blasius (OH)

Todd Brown (IL)

Victor M. De La Cruz (NM)

Brandon A. Dees (OR)

Allen D. Ethridge (AR)

Joseph R. Garcia (NM)

Orelvis Gracia Dominguez (FL)

Clayton G. Grinnell (AL)

James W. Hanley (PA)

Jody R. Higdon (WV)

Dennis R. Ingraham (TX)

Brett D. Johnson (ND)

Marcus L. Jones (MS)

Donny D. Joseph, Jr. (TX)

Joseph A. Kennedy (ME)

Dustin W. Limberg (ND)

Henry M. Medlin (NM)

Dale W. Messenger (NM)

Rene O. Miranda (NV)

Fnu Muhabat (IL)

Raphael I.C. Olegario (MD)

Elijah B. Otis (DE)

Brenda L. Pino Feliciano (KY)

Frank Rodriguez (FL)

Jimmy W. Rowland (FL)

Edward B. Sullivan (TX)

Edward M. Vaillancourt (ID)

Noak O. Vong (KS)

Tywan R. Wilkerson (FL)

Dewayne M. Woodard (DE)

Mohammad J. Yousufzai (NJ)

The following 13 applicants did not have three years of experience driving a CMV on public highways with their vision deficiencies:

Israel Aguilar Amaro (TX)

Brian P. Babcock (OH)

Thomas D. Carnall (IN)

John B. Casper (OK)

Anthony Dixon (NY)

Armando Dominguez (NJ)

William R. Fehlau (TX)

Daniel W. Hodge (TN)

Ron J. Kamys (OR)

Charles E. Miller (SC)

John G. Nicholson (CO)

Al D. Swiney (LA)

Edward J. Ustico (CT)

The following eight applicants did not have three years of recent experience driving a CMV with the vision deficiency:

Ralph M. Bickerdyke (NJ)

Joanne L. Harrison (OH)

Gary O. Johnson (TN)

Anthony E. Saum (AR)

Steven M. Shackleford (AL)

Justin O. Thompson (GA)

James E. White (CA)

Jock A. Yost (OK)

The following five applicants did not have sufficient driving experience during the past three years under normal highway operating conditions (gaps in driving record):

Cornelius J. Odendaal (ND)

Duane S. Owens (PA)

Richard F. Phillips (MA)

Lawrence B. Reyes (WA)

Larry L. Stewart (NC)

William J. O'Neill (NJ) contributed to accident(s) in which the applicant was operating a CMV, which is a disqualifying offense.

The following 22 applicants were denied for multiple reasons:

Jose R. Ayvar (IL)

Robert J. Briceno (CA)

Felix Burgos (DE)

Linwood V. Campbell (VA)

Andy M. Chambers (VA)

Russell D. Cooney (IA)

Casey D. Dresselhouse (MI)

Jerry B. Gibson (KY)

Marlon I. Godoy (CA)

Randall A. Hazelwood (IL)

Ray M. Hicks (MD)

Bruce F. Hunter (NJ)

Donnell V. Jones (MD)

John A. King (CO)

Jeffrey G. Laughlin (AR)

Michael R. Lynn (OH)

Jonathan Marin (NJ)

Jeffrey F. Moore (NC)

Danny Quiles (NJ)

Josue M. Rodriguez-Espinosa (CA)

Loyd B. Rolan (NM)

Cody Zappen (VT)

The following seven applicants have not had stable vision for the preceding three year period:

Ronald E. Adams (NJ)

Douglas R. Barto (KS)

Jimmie E. Curtis (NM)

Robert O. Danner (MN)

Donald E. Ratliff (KY)

William F. Stroup (MT)

Christopher M. Worley (NC)

The following eight applicants met the current federal vision standards. Exemptions are not required for applicants who meet the current regulations for vision:

Craig K. Benjamin (NY)

Brent M. Hanson (ND)

Antonio LaFata (IL)

Holland P. McLaughlin (NY)

Donald B. Pickering (TN)

Robert A. Severin (TX)

Barry W. Sharp (GA)

Regis S. Tornabene (PA)

The following 32 applicants will not be driving interstate, intrastate commerce, or are not required to carry a DOT medical card:

Alex J. Albani (SC)

John R. Anders (PA)

Joni K. Asiryan (FL)

Jorge Balarezo(AK)

Pieter B. Banninga (KS)

Jason Beer (NE)

George N. Bitar (CA)

Jacob T. Boyd (NY)

Richard B. Bursaw (MA)

Cameron L. Card (FL)

Ronald L. Cooper (NC)

Hugo A. Cuevas vargas (ID)

Joshua W. Decker (NY)

William Dunaway (IL)

Douglas M. Frank (SD)

Favian C. Gutierrez (CA)

Alvin H. Horgdal (IA)

Thomas M. Langan (NE)

Jose L. Marinez (FL)

Adriana Marulanda (NJ)

Mario D. Molden (GA)

Hany A. Mousa (PA)

Mantez F. Owens (AL)

Robert W. Petrich (MN)

James H. Raiford (CT)

Michael L. Randazzo (NJ)

Michael Roedl (IL)

Roger C. Schmelzer (MO)

Joe L. Sledd (KY)

Felix Tillman (NJ)

Stephen A. Veats (WA)

Dale A. Wiesehan (IL)

The following five applicants perform transportation for the Federal government, state, or any political sub-division of the state:

Robert A. Anderson (GA)

Stephen L. Hickinson (NJ)

James S. Hosmer (AL)

Peter J. Hoyt (NH)

Richard R. Roggeman (IN)

Issued on: July 19, 2017.
Larry W. Minor,
Associate Administrator for Policy.

[FR Doc. 2017-15836 Filed 7-26-17; 8:45 am]

BILLING CODE 4910-EX-P